DEPARTMENT OF HEALTH AND HUMAN SERVICES

Administration for Community Living

Announcing the Intent To Award a Single-Source Supplement To Continue Operating the Centers for Independent Living (CILs) Training and Technical Assistance (T&TA) Center

ACTION: Notice.

SUMMARY: The Administration for Community Living (ACL) announces the intent to award a single-source supplemental to the current grant held by Independent Living Research Utilization (ILRU) for technical assistance (TA) to Centers for Independent Living (CILs). The administrative supplement for FY 2023 will be for $1,103,545, which will be the total award for FY 2023.

FOR FURTHER INFORMATION CONTACT: For further information or comments regarding this program supplement, contact Peter Nye, U.S. Department of Health and Human Services, Administration for Community Living, Administration on Disabilities, Office of Independent Living Programs; telephone (202) 795-7606; email peter.nye@acl.hhs.gov.

SUPPLEMENTARY INFORMATION: ACL is required by statute (section 721) to annually set aside 1.8-2% of program funds to provide TA to CILs. For more than 30 years, ILRU continues to receive ACL funding for TA as they are the only national TA center that provides TA to CILs in every state and territory, in both rural and urban areas. In partnership with the National Council on Independent Living (NCIL), the Association of Programs for Rural Independent Living (APRIL), and the University of Montana Rural Institute, ILRU's TA center called “IL-NET” is committed to providing training and technical assistance for CILs to enhance their overall efficiency and effectiveness. Their current funding from OILP is set to expire September 29, 2023.

The IL-NET is the only national center for information, training, research, and technical assistance in independent living, targeting both urban and rural areas. It is a program of TIRR Memorial Hermann, a nationally recognized medical rehabilitation facility for persons with disabilities. The IL-NET's mission as the T&TA provider for CILs is to provide training and technical assistance that supports CILs to (1) operate effective organizations; (2) fulfill their role in developing state plans for independent living; (3) monitor, review, and evaluate the implementation of completed plans; and (4) develop partnerships with designated state entities and other agencies to foster effective independent living programs.

Program Name: Centers for Independent Living (CILs) Training and Technical Assistance Center.

Recipient: Independent Living Research Utilization (ILRU).

Period of Performance: The award will be issued for the current project period of September 30, 2023 through September 29, 2024.

Total Award Amount: $1,103,545 in FY 2023.

Award Type: Grant Supplement.

Statutory Authority: The statutory authority is contained in the Rehabilitation Act of 1973, as amended.

Basis for Award: ACL is completing a year-long funded evaluation project conducted by RTI that determines the efficacy of current TA approaches used by the Office of Independent Living Programs. The research includes recommendations as to what should be included in future statements of work. That project will end late September; the findings will inform the scope of work for next year. To that end, the goal of the one-year extension supplement is to continue to meet statutory requirements and provide timely, efficient, and responsive expertise in training and technical assistance for CILs, while allowing ACL to draw from the results of the evaluation research. This continued support to the CIL network will ensure there is no lapse in TA support and help them to improve their outcomes, operations, and governance. It also meets the statutory requirement that 1.8% of Part C funds must be set aside for technical assistance. The part C program received an increase this year, which informs the increase allocation to ILRU.

Dated: August 4, 2023.
Richard Nicholls,
Chief of Staff.

[FR Doc. 2023-17053 Filed 8-8-23; 8:45 am]

BILLING CODE 4154-01-P